DEPARTMENT OF THE TREASURY

Internal Revenue Service

2007 Software Developers Conference

AGENCY: Internal Revenue Service (IRS), Treasury.

ACTION: Software Developers Conference Notification.

SUMMARY: The Internal Revenue Service will host the 2007 Software Developers Conference on June 11 and 12, 2007. The conference will be held at the Marriott Crystal Gateway Hotel in Arlington, Virginia. Listed is a summary of the agenda along with planned discussion topics:

Summarized Agenda for June 11 and June 12, 2007

8 a.m. Conference Begins

11:30 a.m. Break for Lunch

1 p.m. Conference Resumes

4:30 p.m. Conference Adjourns

The planned discussion topics include:

• EMS Changes

• Electronic Signatures and Alternatives

• Interoperability

• Modernized e-File

• Security

• Payroll Tax Issues

• Service Oriented Architecture

Note: Last minute changes to these topics are possible and could prevent advance notice.

DATES: The Software Developers Conference will be held on Monday and Tuesday, June 11 and June 12, 2007. The conference will be held in a room that accommodates approximately 400 people including IRS officials.

ADDRESSES: The conference will be held in the Marriott Crystal Gateway Hotel 1700 Jefferson Davis Highway, Arlington, VA 22202.

FOR FURTHER INFORMATION CONTACT: Registration for the Software Developers Conference may be assessed at http://www.irsSoftwareDevelopersConference.com/.

Participants should register on line for the conference by June 5. Participants may register online or by phone for blocked hotel rooms at a reduced rate by May 14. On site registration will also be available. If you need additional information, you may contact Justin McCarty at (202) 283-2665 or send an e-mail to IRS.SW.CONF@irs.gov.

SUPPLEMENTARY INFORMATION: The IRS Software Developers Conference provides information and dialogue on issues of interest to IRS e-file software developers and transmitters.

Dated: April 10, 2007.
Gregory Kay,
Director, Strategic Services Division.

[FR Doc. E7-7479 Filed 4-19-07; 8:45 am]

BILLING CODE 4830-01-P